DEPARTMENT OF COMMERCE

National Oceanic and Atmospheric Administration

50 CFR Part 660

[Docket No. 191106-0077]

RIN 0648-BI89

Magnuson-Stevens Act Provisions; Fisheries Off West Coast States; Pacific Coast Groundfish Fishery; Pacific Fishery Management Plan; Amendment 28; Correction

AGENCY: National Marine Fisheries Service (NMFS), National Oceanic and Atmospheric Administration (NOAA), Commerce.

ACTION: Final rule; correction

SUMMARY: NMFS published a final rule that implemented Amendment 28 to the Pacific Coast Groundfish Fishery Management Plan in the Federal Register on November 19, 2019 (84 FR 63966). The final rule changed boundaries of closed areas that affect commercial vessels fishing under the Pacific Coast Groundfish Fishery Management Plan with bottom contacting gear in Federal waters off of Washington, Oregon, and California.

DATES: Effective January 1, 2020.

FOR FURTHER INFORMATION CONTACT: Gretchen Hanshew, West Coast Region, NMFS, 7600 Sand Point Way NE, Seattle, WA 98115, phone: 206-526-6147, or email: Gretchen.Hanshew@noaa.gov.

SUPPLEMENTARY INFORMATION:

Federal Register Correction

Effective January 1, 2020, in rule document 2019-24684 at 84 FR 63966 in the issue of November 19, 2019:

1. On page 63977, in the second column, in amendatory instruction 12, paragraph (e)(5) is corrected to read as follows:

§ 660.78 [Corrected]

(e) * * *

(5) 46°00.83′ N lat., 124°36.78′ W long.;

2. On page 63979, in the third column, in amendatory instruction 14, paragraph (f)(22) is corrected to read as follows:

§ 660.79 [Corrected]

(f) * * *

(22) 40°32.68′ N lat., 125°05.63′ W long.;

Authority: 16 U.S.C. 1801 et seq., 16 U.S.C. 773 et seq., and 16 U.S.C. 7001 et seq.

Dated: December 18, 2019.
Samuel D. Rauch III,
Deputy Assistant Administrator for Regulatory Programs, National Marine Fisheries Service.

[FR Doc. 2019-27657 Filed 12-23-19; 8:45 am]

BILLING CODE 3510-22-P